DEPARTMENT OF THE INTERIOR

Bureau of Land Management

[LLNVC01000.L19200000.ET0000; LRORF1608600; MO# 4500096048]

Notice of Application for withdrawal extension; Notice of Application for Withdrawal Expansion; and Opportunity for Public Meeting; Naval Air Station, Fallon, Nevada

AGENCY: Bureau of Land Management, Interior.

ACTION: Notice of withdrawal applications.

SUMMARY: The Department of the Navy (DON) has filed an application to extend the current withdrawal of public lands from all forms of appropriation under the public land laws, including the mining laws, the mineral leasing laws, and the geothermal leasing laws, subject to valid existing rights, for military use of the Naval Air Station (NAS) Fallon, Fallon Range Training Complex (FRTC) in Churchill County, Nevada (withdrawal extension). The DON has also requested the withdrawal of approximately 604,789 additional acres of public lands from all forms of appropriation under the public land laws, including the mining laws, the mineral leasing laws, and the geothermal leasing laws, subject to valid existing rights (withdrawal expansion). This notice temporarily segregates the 604,789 acres from all forms of appropriation under the public land laws, including the mining laws, the mineral leasing laws, and the geothermal leasing laws, for 2 years; gives the public an opportunity to comment on the proposed withdrawal extension and withdrawal expansion; and announces the date, time, and location of public meetings on both the extension and the expansion.

DATES: Comments on the withdrawal applications, including their environmental consequences, should be received on or before December 1, 2016. In addition, public meetings on the withdrawal applications will be held jointly with the DON's public meetings associated with the National Environmental Policy Act of 1969, as amended (NEPA) evaluation of the withdrawals.. The dates and locations of the public meetings are listed in the SUPPLEMENTARY INFORMATION section.

ADDRESSES: Comments pertaining to the DON withdrawal extension proposal and/or the DON withdrawal expansion proposal should be sent to: Naval Facilities Engineering Command Southwest; Attention: Amy P. Kelley, Code EV21.AK; 1220 Pacific Highway; Building 1, 5th Floor; San Diego, California 92132. Comments pertaining to this Notice should be submitted by any of the following methods:

• Email: BLM_NV_FRTC@blm.gov

• Fax: (775) 885-6147

• Mail: BLM Carson City District, Attn: NAS Fallon FRTC, 5665 Morgan Mill Road, Carson City, NV 89701

FOR FURTHER INFORMATION CONTACT: Colleen Sievers, BLM, Carson City District Office, 775-885-6168; address: 5665 Morgan Mill Road, Carson City, NV 89701; email: csievers@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: Pursuant to section 3016 of the National Defense Authorization Act (NDAA) for Fiscal Year 2000, Pub. L. 106-65, the Department of the Navy (DON) has filed an application to extend the current withdrawal of public lands from all forms of appropriation under the public land laws, including the mining laws, the mineral leasing laws (except for approximately 68,804 acres in the Dixie Valley Training Area which is currently included in the overall withdrawal but not withdrawn from the mineral leasing laws), and the geothermal leasing laws, subject to valid existing rights, for military use of the Naval Air Station (NAS) Fallon, Fallon Range Training Complex (FRTC) in Churchill County, Nevada. The lands are currently withdrawn under the Military Lands Withdrawal Act of 1999, which is part of the NDAA for Fiscal Year 2000, which reserves these lands for defense-related purposes for a period of 20 years. Unless Congress extends the withdrawal, it will expire on November 5, 2021.

In addition to the DON's request that the current withdrawal be extended, the DON filed an application requesting the withdrawal and reservation of additional public lands for military training exercises involving the NAS Fallon at Fallon, Churchill County, Nevada. The application to expand the acreage of lands withdrawn for the Navy's use at Fallon seeks the withdrawal of approximately 604,789 additional acres of public lands from all forms of appropriation under the public land laws, including the mining laws, the mineral leasing laws, and the geothermal leasing laws, subject to valid existing rights.

In addition, the application seeks to extend the existing withdrawal of 68,804 acres in the Dixie Valley Training Area (DVTA). Pursuant to Section 3011 of the NDAA for Fiscal Year 2000, the FRTC DVTA acres are currently withdrawn from all forms of appropriation under the public land laws, including the mining and geothermal leasing laws, but not withdrawn from the mineral leasing laws. This application seeks the withdrawal of these 68,804 acres of the DVTA from the mineral leasing laws, subject to valid existing rights. The DON's requested 604,789 expansion acres do not include the 68,804 DVTA acres, as the DVTA acres are already withdrawn from the other public land laws, and reserved for DON use.

As required by section 204(b)(1) of the Federal Land Policy and Management Act of 1976 (FLPMA), 43 U.S.C. 1714(b)(1), and the BLM regulations at 43 CFR part 2300, the BLM is publishing this Notice of the DON applications. While the BLM and the Department of the Interior (DOI) assist the DON with the processing of withdrawal applications, and the Secretary of the Interior makes a recommendation to Congress on proposed withdrawals, it will be Congress, not the Secretary of the Interior, that will make the final decision on the requested extension and expansion of the existing NAS Fallon withdrawal.

Extention request. This application requests extension of the withdrawal of the following area at the NAS FRTC, Nevada, subject to valid existing rights as described below: The areas B-16, B-17, B-19, B-20, Shoal Site, and the Dixie Valley Training Area aggregate 223,557 acres. Portions of these lands are unsurveyed and the acres were obtained from protraction diagrams or calculated using Geographic Information System.

Mount Diablo Meridian, Nevada

B-16

Bureau of Land Management

T. 17 N., R. 27 E., partly unsurveyed,

Sec. 11, E½;

Sec. 14, E½.

T. 18 N., R. 27 E.,

Sec. 35, E½.

T. 17 N., R. 28 E.,

Secs. 4 thru 9 and 16 thru 21;

Secs. 29 thru 32.

The area described for B-16 aggregates 18,270.20 acres in Churchill County.

Bureau of Reclamation

T.17 N., R. 27 E., partly unsurveyed,

Secs. 1 thru 3;

Secs. 12 and 13;

Secs. 23 thru 26, 35, and 36.

T. 18 N., R. 27 E.,

Secs. 25, 26, and 36.

T. 16 N., R. 28 E., partly unsurveyed,

Sec. 3, lots 2 thru 4, SW¼NE¼, and S½NW¼;

Sec. 4, lots 1 thru 4, S½NE¼, and S½NW¼.

T. 17 N., R. 28 E.,

Sec. 22, W½NE¼, NW¼, and S½;

Secs. 27, 28, 33, and 34.

T. 18 N., R. 28 E.,

Sec. 28, W½NE¼, W½, and W½SE¼;

Secs. 29 thru 32;

Sec. 33, W½NE¼, W½, and W½SE¼.

The area described for B-16 aggregates 9,088.77 acres in Churchill County.

B-17

Bureau of Land Management

T. 15 N., R. 33 E., partly unsurveyed,

Secs. 1 thru 5;

Sec. 6, that portion east of the easterly right-of-way boundary for State Route 839;

Sec. 7, that portion east of the easterly right-of-way boundary for State Route 839;

Secs. 8 thru 11;

Sec. 12, except patented lands;

Secs. 13 thru 17;

Sec. 18, that portion east of the easterly right-of-way boundary for State Route 839;

Sec. 19, that portion east of the easterly right-of-way boundary for State Route 839;

Secs. 20 thru 28, 35, and 36.

T. 16 N., R. 33 E.,

Sec. 1, that portion south of the southerly right-of-way boundary for U.S. Highway 50;

Sec. 2, that portion south of the southerly right-of-way boundary for U.S. Highway 50;

Sec. 3, that portion south of the southerly right-of-way boundary for U.S. Highway 50, except patented lands;

Sec. 4, that portion south of the southerly right-of-way boundary for U.S. Highway 50;

Sec. 5, that portion south of the southerly right-of-way boundary for U.S. Highway 50 and east of the easterly right-of-way boundary for State Route 839;

Sec. 8, that portion east of the easterly right-of-way boundary for State Route 839;

Secs. 9 thru 16;

Sec. 17, that portion east of the easterly right-of-way boundary for State Route 839;

Sec. 18, that portion east of the easterly right-of-way boundary for State Route 839;

Sec. 19, that portion east of the easterly right-of-way boundary for State Route 839;

Secs. 20 thru 29;

Sec. 30, that portion east of the easterly right-of-way boundary for State Route 839;

Sec. 31, that portion east of the easterly right-of-way boundary for State Route 839;

Sec. 32, that portion east of the easterly right-of-way boundary for State Route 839;

Secs. 33 thru 36.

T. 16 N., R. 33½ E., unsurveyed,

Sec. 1, that portion south of the southerly right-of-way boundary for U.S. Highway 50;

Secs. 12 and 13;

Sec. 24, except patented lands;

Secs. 25 and 36.

T. 15 N., R. 34 E., partly unsurveyed,

Sec. 4, lot 4 and W½SW¼;

Secs. 5 and 6;

Sec. 7, except patented lands;

Sec. 8;

Sec. 9, W½NW¼ and W½SW¼;

Sec. 16, W½NW¼ and W½SW¼;

Sec. 17;

Sec. 18 except patented lands;

Secs. 19 and 20;

Sec. 21, W½NW¼ and NW¼SW¼;

Secs. 29 thru 31.

T. 16 N., R. 34 E., partly unsurveyed,

Sec. 4, lots 4, 6, 7, 8, 13, 14, and SW¼;

Sec. 5, that portion south of the southerly right-of-way boundary for U.S. Highway 50;

Sec. 6, that portion south of the southerly right-of-way boundary for U.S. Highway 50;

Sec. 7, except patented lands;

Sec. 8, except patented lands;

Sec. 9, W½, except patented lands;

Sec. 16, W½, except patented lands;

Sec. 17, except patented lands;

Sec. 18, except patented lands;

Sec. 19, except patented lands;

Sec. 20, except patented lands;

Sec. 21, W½, except patented lands;

Sec. 28, W½;

Secs. 29 thru 32;

Sec. 33, W½.

The area described for B-17 aggregates 53,546.45 acres in Churchill County.

Department of Navy Lands Not Withdrawn From the Public Domain

T. 16 N., R. 33 E.,

Sec. 3, those portions of the S½SW¼NW¼ and SE¼NW¼, south of the southerly right-of-way for U.S. Highway 50.

The area described for B-17 contains 25.42 acres in Churchill County.

Non-Federally Owned Lands

T. 15 N., R. 33 E., partly unsurveyed,

A portion of M.S. No. 3914 (Gold Coin No. 1 Lode).

T. 16 N., R. 33½ E., unsurveyed,

A portion of M.S. No. 3213 (Ivy No. 2 Lode).

T. 15 N., R. 34 E., partly unsurveyed,

A portion of M.S. No. 3914 (Bluff, Gold Coin, Gold Coin No. 1, Gold Coin No. 2, and Fraction Lodes).

T. 16 N., R. 34 E., partly unsurveyed,

M.S. No. 2657 (Ida M No. 1, Ida M No. 2, Ida M No. 3, Ida M No. 4, and Ida M No. 5 Lodes);

M.S. No. 2664 (Boulder, Boulder No. 1, Florence No. 4, and Nappias Lodes);

M.S. No. 2668 (Florence No. 3, Blue Bell, and Little Fellow Lodes);

M.S. No. 2728 (Lena No. 3 Lode);

M.S. No. 2730 (Boulder No. 2, Boulder No. 3, Fairview, Eagles Nest No. 3, and Eagles Nest No. 4 Lodes);

M.S. No. 2731 (Arizona, Montana, Cyclone, Golden West, Lone Tree, Whirlwind, Zephyr, Little Lena, and Triangle Lodes);

M.S. No. 2732 (Juniper, Washington, Dakota, and California Lodes);

M.S. No. 2733 (Oregon, Idaho, and Colorado Lodes);

M.S. No. 2745 (Detroit and Tiger Lodes);

M.S. No. 2755 (Seymour Lode);

M.S. No. 2762 (Lena No. 1 and Lena No. 2 Lodes);

M.S. No. 2800 (Redrock, Denver Fraction, Crosscut No. 1, Paymaster No. 1, Crosscut Fraction, Bellweather No. 1, Crosscut, and Crosscut No. 2 Lodes);

M.S. No. 3022 (Lena No. 4, Lena No. 5, Lena No. 6, and Borealis No. 2 Lodes);

M.S. No. 3206 (Ohio and Ohio No. 1 Lodes);

A portion of M.S. No. 3213 (Paymaster No. 4, Bellweather No.2, Bradshaw Fraction, Ivy, and Ivy No. 2 Lodes);

M.S. No. 3219 (Atlanta Lode);

M.S. No. 3277 (Lena Annex Lode);

M.S. No. 3383 (Lookout No. 2, Lookout No. 3, Lookout No. 4, Lookout No. 9, Lookout No. 10, and Fairplay Lodes);

M.S. No. 3430 (Boulder No. 6 Wedge Lode);

A portion of M.S. No. 3630 (Kimberly No. 3 and Kimberly No. 4 Lodes);

M.S. No. 3673 (Jackrabbit and Jackrabbit No. 1 Lodes);

M.S. No. 3752 (Great Falls Lode);

A portion of M.S. No. 3927 (Lookout No. 5, Lookout No. 6, Lookout No. 7, Lookout No. 11, and Silver Butte Lodes).

The area described for B-17 aggregates 1,214.97 acres in Churchill County.

B-19

Bureau of Land Management

T. 15 N., R. 29 E.,

Secs. 1 thru 3;

Sec. 4, that portion east of the easterly right-of-way boundary for U.S. Highway 95;

Sec. 9, that portion east of the easterly right-of-way boundary for U.S. Highway 95;

Secs. 10 thru 15;

Sec. 16, that portion east of the easterly right-of-way boundary for U.S. Highway 95;

Sec. 21, that portion east of the easterly right-of-way boundary for U.S. Highway 95;

Secs. 22 thru 24.

T. 15 N., R. 30 E.,

Secs. 1 thru 24.

T. 16 N., R. 30 E., partly unsurveyed,

Sec. 32, SE¼;

Sec. 33, S½;

Sec. 34, S½;

Sec. 35, S½.

T. 15 N., R. 31 E., partly unsurveyed,

Secs. 5 thru 8 and 17 thru 20.

The area described for B-19 aggregates 29,012.14 acres in Churchill County.

B-20

Bureau of Land Management

T. 23 N., R. 32 E.,

Secs. 2, 4, 6, 8, 10, 12, 14, 16, 18, 20, 22, 24, 26, 28, and 30.

T. 24 N., R. 32 E.,

Secs. 20, 22, 24, 26, 28, 30, 32, 34, and 36.

T. 23 N., R. 33 E.,

Secs. 6 and 8;

Sec. 17, SE¼;

Sec. 18;

Sec. 19, lots 3 and 4, E½SW¼, and SE¼;

Secs. 20 and 29.

T. 24 N., R. 33 E.,

Secs. 20, 30, and 32;

The area described for B-20 aggregates 20,948.44 acres in Churchill County.

Department of Defense Lands Not Withdrawn From the Public Domain

T. 23 N., R. 32 E.,

Secs. 1, 3, 5, 7, 9, 11, 13, 15, 17, 19, 21, 23, 25, 27, and 29.

T. 24 N., R. 32 E.,

Secs. 19, 21, 23, 25, 27, 29, 31, 33, and 35.

T. 23 N., R. 33 E.,

Secs. 5 and 7;

Sec. 17, N½ and SW¼;

Sec. 19, N½.

T. 24 N., R. 33 E.,

Secs. 19, 29, and 31.

The area described for B-20 aggregates 19,429.35 acres in Churchill County.

Bureau of Reclamation

T. 23 N., R. 33 E.,

Sec. 30.

The area described for B-20 contains 627.96 acres in Churchill County.

Shoal Site

Bureau of Land Management

T. 15 N., R. 32 E., unsurveyed,

Sec. 3, that portion included in PLO 2771 and PLO 2834, “Shoal Site”;

Sec. 4;

Sec. 5, that portion included in PLO 2771 and PLO 2834, “Shoal Site”

Sec. 8, that portion included in PLO 2771 and PLO 2834, “Shoal Site”;

Sec. 9, that portion included in PLO 2771 and PLO 2834, “Shoal Site”;

Sec. 10, that portion included in PLO 2771 and PLO 2834, “Shoal Site”.

T. 16 N., R. 32 E.,

Secs. 33 and 34.

The area described for Shoal Site aggregates 2,560.90 acres in Churchill County.

Dixie Valley Training Area

Bureau of Land Management

T. 16 N., R. 33 E.,

Sec. 1, that portion north of the northerly right-of-way boundary for U.S. Highway 50;

Sec. 2, that portion north of the northerly right-of-way boundary for U.S. Highway 50;

Sec. 3, that portion north of the northerly right-of-way boundary for U.S. Highway 50, except patented lands;

Sec. 4, that portion north of the northerly right-of-way boundary for U.S. Highway 50;

Sec. 5, that portion north of the northerly right-of-way boundary for U.S. Highway 50.

T. 17 N., R. 33 E.,

Secs. 1 thru 5, 8 thru 17, 20 thru 29, and 32 thru 36.

T. 18 N., R. 33 E., unsurveyed,

Sec. 9, E½;

Sec. 10, that portion south of Elevenmile Canyon Wash;

Sec. 13, that portion south of Elevenmile Canyon Wash;

Sec. 14, that portion south of Elevenmile Canyon Wash;

Sec. 15;

Sec. 16, E½;

Secs. 21 thru 28;

Sec. 29, E½;

Secs. 32 thru 36.

T. 16 N., R. 33½ E., unsurveyed,

Sec. 1, that portion north of the northerly right-of-way boundary for U.S. Highway 50.

T. 17 N., R. 33½ E.

T. 18 N., R. 33½ E.,

Sec. 13, that portion south of Elevenmile Canyon Wash;

Sec. 24, that portion south of Elevenmile Canyon Wash;

Secs. 25 and 36.

T. 16 N., R. 34 E., partly unsurveyed,

Sec. 4, lots 3 and 5;

Sec. 5, that portion north of the northerly right-of-way boundary for U.S. Highway 50;

Sec. 6, that portion north of the northerly right-of-way boundary for U.S. Highway 50.

T. 17 N., R. 34 E.,

Sec. 3, lots 3 and 4, S½NW¼, and SW¼;

Secs. 4 thru 9;

Sec. 10, W½;

Sec. 15, W½;

Secs. 16 thru 21;

Sec. 22, W½;

Sec. 27, W½;

Secs. 28 thru 33;

Sec. 34, W½.

T. 18 N., R. 34 E.,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 19, that portion south of Elevenmile Canyon Wash;

Sec. 20, that portion south of Elevenmile Canyon Wash;

Sec. 21, that portion east of the easterly right-of-way boundary for State Route 121 and that portion south of Elevenmile Canyon Wash;

Sec. 22;

Secs. 27 thru 34.

T. 19 N., R. 34 E.,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 21, that portion east of the easterly right-of-way boundary for State Route 121;

Secs. 22 and 27;

Sec. 28, that portion east of the easterly right-of-way boundary for State Route 121;

Sec. 33, that portion east of the easterly right-of-way boundary for State Route 121;

Sec. 34.

T. 20 N., R. 34 E., partly unsurveyed,

Sec. 2, lots 2 thru 4, SW¼NE¼, S½NW¼, SW¼, and W½SE¼;

Sec. 3, lot 1, SE¼NE¼, and E½SE¼;

Sec. 10, E½NE¼ and E½SE¼;

Sec. 11, W½NE¼, W½SE¼, and W½;

Sec. 26, W½NE¼, W½SE¼, and W½;

Sec. 27;

Sec. 28, that portion east of the easterly right-of-way boundary for State Route 121;

Sec. 33, that portion east of the easterly right-of-way boundary for State Route 121;

Sec. 34.

T. 21 N., R. 34 E.,

Sec. 25, lots 1 and 2, W½NE¼, and NW¼.

T. 21 N., R. 35 E.,

Sec. 17, W½, except patented lands;

Sec. 18, lots 5 thru 11 and E½SE¼SE¼NE¼.

The area described for Dixie Valley Training Area aggregates 68,804.44 acres in Churchill County.

Department of Defense Lands Not Withdrawn from the Public Domain

T. 16 N., R. 33 E.,

Sec. 3, those portions of the S½SW¼NW¼ and SE¼NW¼ north of the northerly right-of-way boundary for U.S. Highway 50.

The area described for Dixie Valley Training Area contains 28.10 acres in Churchill County.

Expansion request. In accordance with the Engle Act, (43 U.S.C. 155-158), the DON has filed an application requesting withdrawal and reservation of additional Federal lands for military training exercises involving the NAS Fallon at Fallon, Churchill County, Nevada (the “expansion area”). The DON requests that the land be withdrawn from all forms of appropriation under the public land laws, including the mining laws, the mineral leasing laws, and the geothermal leasing laws, subject to valid existing rights, and reserved for use of the DON for testing and training involving air-to-ground weapons delivery, tactical maneuvering, use of electromagnetic spectrum, land warfare maneuver, and air support, as well as other defense-related purposes consistent with these purposes. Pursuant to the Act, the FRTC Dixie Valley Training Area (DVTA) is currently withdrawn from all forms of appropriation under the public land laws, including the mining and geothermal leasing laws, but not the mineral leasing laws. The DON application also seeks to withdraw the DVTA acres from the mineral leasing laws, subject to valid existing rights. The expansion area consists of the lands and interests in lands described below and adjacent to the exterior boundaries of the NAS FRTC, located in Churchill, Lyon, Mineral, Nye, and Pershing Counties, Nevada.

The areas B-16, B-17, B-20, and the Dixie Valley Training Area aggregate 678,671 acres. Portions of these lands are unsurveyed and the acres obtained from protraction diagram information or calculated using Geographic Information System.

Mount Diablo Meridian, Nevada

B-16

Bureau of Land Management

T. 16 N., R. 26 E.,

Sec. 1, lots 1 thru 4;

Sec. 2, lots 1 and 2.

T. 17 N., R. 26 E., partly unsurveyed,

Secs. 1, 2, and 11 thru 13;

Sec. 14, E½;

Sec. 23, E½;

Secs. 24 and 25;

Sec. 26, E½;

Sec. 35, E½;

Sec. 36.

T. 18 N., R. 26 E.,

Sec. 35, S½;

Sec. 36.

T. 16 N., R. 27 E.,

Sec. 1, lots 1 thru 5, SW¼NE¼, S½NW¼, N½SW¼, and SW¼SW¼;

Secs. 2 and 3;

Sec. 4, lots 1 thru 4, S½NE¼, S½NW¼, N½SW¼, and N½SE¼;

Sec. 5, lots 1 thru 4, S½NE¼, S½NW¼, SW¼, and N½SE¼;

Sec. 6, lots 1 thru 5, S½NE¼, NE¼SE¼, and E½SE¼SE¼.

T. 17 N., R. 27 E., partly unsurveyed,

Secs. 4 thru 10;

Sec. 11, W½;

Sec. 14, W½;

Secs. 15 thru 22 and 27 thru 34.

T. 18 N., R. 27 E.,

Secs. 27 thru 34;

Sec. 35, W½.

T. 16 N., R. 28 E., partly unsurveyed,

Sec. 5, lots 1 thru 4, S½NE¼, and S½NW¼;

Sec. 6, lots 1 thru 5, SE¼NW¼, and S½NE¼.

The area described for B-16 aggregates 32,201.17 acres in Churchill and Lyon Counties.

B-17

Bureau of Land Management

T. 13 N., R. 32 E.,

Sec. 1, except patented lands.

T. 14 N., R. 32 E., unsurveyed,

Secs. 1 thru 3, 10 thru 15, 22 thru 26, 35, and 36.

T. 15 N., R. 32 E., unsurveyed,

Secs. 25, 26, 35, and 36.

T. 12 N., R. 33 E.,

Secs. 1 thru 8;

Sec. 9, N½, N½SW¼, SW¼SW¼, N½SE¼, and SE¼SE¼;

Secs. 10 thru 15;

Sec. 16, W½SW¼;

Secs. 17, 18, and 20 thru 24.

Tps. 13 and 14 N., R. 33 E., unsurveyed.

T. 15 N., R. 33 E., partly unsurveyed,

Sec. 6, that portion west of the easterly right-of-way boundary for State Route 839;

Sec. 7, that portion west of the easterly right-of-way boundary for State Route 839;

Sec. 18, that portion west of the easterly right-of-way boundary for State Route 839;

Sec. 19, that portion west of the easterly right-of-way boundary for State Route 839;

Secs. 29 thru 34.

T. 12 N., R. 34 E.,

Secs. 2 thru 5;

Sec. 6, lots 1 and 3 thru 7, SE¼NE¼, SE¼NW¼, E½SW¼, and S½SE¼;

Sec. 7, lots 1, 2, and 4, E½, E½NW¼, and SE¼SW¼;

Secs. 8 thru 10 and 16 thru 18.

Tps. 13 and 14 N., R. 34 E., unsurveyed.

T. 15 N., R. 34 E., partly unsurveyed,

Secs. 1 thru 3;

Sec. 4, lots 1 thru 3, E½SW¼, and SE¼;

Sec. 9, E½, E½NW¼, and E½SW¼;

Secs. 10 thru 15;

Sec. 16, E½, E½NW¼, and E½SW¼;

Sec. 21, E½, E½NW¼, E½SW¼, and SW¼SW¼;

Secs. 22 thru 28 and 32 thru 36.

T. 16 N., R. 34 E., partly unsurveyed,

Sec. 15, lots 1 and 2, N½, SE¼, and E½SW¼;

Sec. 16, lots 1 thru 8 and 13, NE¼NE¼, and SW¼SE¼;

Sec. 21, lot 1, E½NE¼, SW¼NE¼, and SE¼;

Secs. 22 thru 23 and 25 thru 27;

Sec. 28, E½;

Sec. 33, E½;

Secs. 34 thru 36.

T. 13 N., R. 35 E., unsurveyed,

Sec. 4, W½;

Secs. 5 thru 8;

Sec. 9, NW¼;

Secs. 17 thru 20 and 30.

T. 14 N., R. 35 E., unsurveyed,

Sec. 4, W½;

Secs. 5 thru 8;

Sec. 9, that portion west of the westerly right-of-way boundary for State Route 361;

Sec. 16, that portion west of the westerly right-of-way boundary for State Route 361;

Secs. 17 thru 20;

Sec. 21, that portion west of the westerly right-of-way boundary for State Route 361;

Sec. 28, W½NE¼, W½, and W½SE¼;

Secs. 29 thru 32;

Sec. 33, W½NE¼, W½, and W½SE¼.

T. 15 N., R. 35 E., unsurveyed,

Secs. 6 thru 8 and 17 thru 20;

Sec. 28, W½;

Secs. 29 thru 32;

Sec. 33, W½.

T. 16 N., R. 35 E.,

Sec. 31.

The area described for B-17 aggregates 176,977.16 acres in Churchill, Nye, and Mineral Counties.

Non-Federally Owned Lands

T. 13 N., R. 32 E., partly unsurveyed,

A portion of M.S. No. 4773 (Viking's Daughter, Turtle, Tungsten, and Don).

T. 12 N., R. 33 E.,

Sec. 9, SE¼SW¼ and SW¼SE¼;

Sec. 16, N½, E½SW¼, and SE¼.

T. 12 N., R. 34 E.,

Sec. 6, lot 2, SW¼NE¼, and N½SE¼;

Sec. 7, lot 3 and NE¼SW¼.

T. 16 N., R. 34 E., partly unsurveyed,

A portion of M.S. No. 4184 (Eva B, Eva B No. 2, Argel No. 1, Argel No. 2, Argel No. 3, and Prince Albert Lodes);

A portion of M.S. No. 3927 (Lookout No. 11 Lode).

The area described for B-17 aggregates 1,036.37 acres in Churchill, Nye, and Mineral Counties.

B-20

Bureau of Land Management

T. 24 N., R. 31 E.,

Secs. 2, 4, 8, 10, 12, 14, 16, 18, 20, 22, 28, and 30.

T. 25 N., R. 31 E.,

Secs. 34 and 36.

T. 24 N., R. 32 E.,

Secs. 2, 4, 6, 8, 10, 12, 14, 16, and 18.

T. 25 N., R. 32 E.,

Secs. 10, 12, and 14;

Sec. 15, SE¼NE¼, NE¼SE¼, and SE¼SE¼;

Secs. 16, 20, 22, 24, 26, 28, 32, 34, and 36.

T. 22 N., R. 33 E.,

Secs. 4, 5, and 8.

T. 23 N., R. 33 E.,

Secs. 2, 4, 10, 11, 14 thru 16, 21, 22, 27, 28, and 32 thru 34.

T. 24 N., R. 33 E.,

Secs. 2, 4, 6, 8, 10, 12, 14, 16, 18, 22, 24, 26, 28, 34, and 36.

T. 25 N., R. 33 E.,

Secs. 6, 8, 16, 18, 20, 22, 26, 28, 30, 32, and 34.

The area described for B-20 aggregates 49,986.79 acres in Churchill and Pershing Counties.

Bureau of Reclamation

T. 22 N., R. 30 E.,

Secs. 12 and 24.

T. 23 N., R. 30 E.,

Secs. 25, 35, and 36.

T. 22 N., R. 31 E.,

Secs. 2, 4, 6, 8, 10, 12, 14, 16, 18, 20, 22, 24, 26, 28, 30, 32 thru 34, and 36.

T. 23 N., R. 31 E.,

Secs. 1 thru 4;

Sec. 5, S½;

Secs. 6 thru 36.

T. 24 N., R. 31 E.,

Secs. 24, 26, 32, 34, and 36.

T. 22 N., R. 32 E.,

Secs. 1, 2, 4, 6, and 8;

Sec. 9, E½;

Secs. 10 thru 16, 18, and 20 thru 36.

T. 23 N., R. 32 E.,

Secs. 32 and 34 thru 36.

T. 22 N., R. 33 E.,

Secs. 6, 7, and 18.

T. 23 N., R. 33 E.,

Sec. 31.

The area described for B-20 aggregates 65,375.88 acres in Churchill County.

Fish and Wildlife Service

T. 22 N., R. 30 E.,

Secs. 2, 10, 14, 22, and 26.

The area described for B-20 contains 3,201.00 acres in Churchill County.

Non-Federally Owned Lands

T. 22 N., R. 30 E.,

Secs. 1, 11, 13, 15, 23, and 25.

T. 22 N., R. 31 E.,

Secs. 1, 3, 5, 7, 9, 11, 13, 15, 17, 19, 21, 23, 25, 27, 29, 31, and 35.

T. 23 N., R. 31 E.,

Sec. 5, lots 1 thru 4, S½NE¼, and S½NW¼.

T. 24 N., R. 31 E.,

Secs. 1, 3, 9, 11, 13, 15, 17, 19, 21, 23, 25, 27, 29, 31, 33, and 35.

T. 25 N., R. 31 E.,

Sec. 35.

T. 22 N., R. 32 E.,

Secs. 3, 5, and 7;

Sec. 9, W½;

Secs. 17 and 19.

T. 23 N., R. 32 E.,

Secs. 31 and 33.

T. 24 N., R. 32 E.,

Secs. 1, 3, 5, 7, 9, 11, 13, 15, and 17.

T. 25 N., R. 32 E.,

Secs. 1, 11, and 13;

Sec. 15, N½NE¼, SW¼NE¼, W½, and W½SE¼;

Secs. 21, 23, 25, 27, 29, 31, 33, and 35.

T. 23 N., R. 33 E.,

Secs. 3 and 9.

T. 24 N., R. 33 E.,

Secs. 1, 3, 5, 7, 9, 11, 13, 15, 17, 21, 23, 25, 27, 33, and 35.

T. 25 N., R. 33 E

Secs. 5, 7, 15, 17, 19, 21, 27, 29, 31, 33, and 35.

The area described for B-20 contains 61,764.88 acres in Churchill and Pershing Counties.

Dixie Valley Training Area

Bureau of Land Management

T. 13 N., R. 32 E.,

Sec. 2;

Sec. 3, lots 1 thru 4, S½NE¼, S½NW¼, and SE¼;

Sec. 4, lots 1 and 2 and S½NE¼;

Sec. 11;

Sec. 12, except patented lands;

Secs. 13 and 24.

T. 14 N., R. 32 E., unsurveyed,

Secs. 4, 5, 8, 9, and 16;

Sec. 21, E½;

Sec. 27;

Sec. 28, E½;

Sec. 33, E½;

Sec. 34.

T. 15 N., R. 32 E., unsurveyed,

Secs. 1 and 2;

Sec. 3, except lands withdrawn under PLO 2771 and PLO 2834, “Shoal Site”;

Sec. 5, except lands withdrawn under PLO 2771 and PLO 2834, “Shoal Site”;

Sec. 8, except lands withdrawn under PLO 2771 and PLO 2834, “Shoal Site”;

Sec. 9, except lands withdrawn under PLO 2771 and PLO 2834, “Shoal Site”;

Sec. 10, except lands withdrawn under PLO 2771 and PLO 2834, “Shoal Site”;

Secs. 11 thru 17, 20 thru 24, 27 thru 29, and 32 thru 34.

T. 16 N., R. 32 E.,

Secs. 13 and 14, 23 thru 26, 35, and 36.

T. 17 N., R. 32 E., partly unsurveyed,

Sec. 1, E½;

Sec. 12, E½.

T. 18 N., R. 32 E., unsurveyed,

Secs. 1, 12, 13, 24, 25, and 36.

T. 19 N., R. 32 E., unsurveyed,

Secs. 24, 25, and 36.

T. 16 N., R. 33 E.,

Sec. 1, that portion north of the southerly right-of-way boundary and south of the northerly right-of-way boundary for U.S. Highway 50;

Sec. 2, that portion north of the southerly right-of-way boundary and south of the northerly right-of-way boundary for U.S. Highway 50;

Sec. 3, that portion north of the southerly right-of-way boundary and south of the northerly right-of-way boundary for U.S. Highway 50, except patented lands;

Sec. 4, that portion north of the southerly right-of-way boundary and south of the northerly right-of-way boundary for U.S. Highway 50;

Sec. 5, that portion north of the southerly right-of-way boundary and south of the northerly right-of-way boundary for U.S. Highway 50;

Sec. 17, that portion west of the easterly right-of-way boundary for State Route 839;

Sec. 18, that portion west of the easterly right-of-way boundary for State Route 839;

Sec. 19, that portion west of the easterly right-of-way boundary for State Route 839;

Sec. 30, that portion west of the easterly right-of-way boundary for State Route 839;

Sec. 31, that portion west of the easterly right-of-way boundary for State Route 839;

Sec. 32, that portion west of the easterly right-of-way boundary for State Route 839.

T. 17 N., R. 33 E.,

Secs. 6 and 7.

T. 18 N., R. 33 E., unsurveyed,

Secs. 1, 2, and 4 thru 8;

Sec. 9, W½;

Sec. 10, that portion north of Elevenmile Canyon Wash;

Secs. 11 and 12;

Sec. 13, that portion north of Elevenmile Canyon Wash;

Sec. 14, that portion north of Elevenmile Canyon Wash;

Sec. 16, W½;

Secs. 17 thru 20;

Sec. 29, W½;

Secs. 30 and 31.

T. 19 N., R. 33 E., unsurveyed,

Sec. 19;

Sec. 20, SW¼;

Sec. 28, W½;

Secs. 29 thru 33 and 36.

T. 20 N., R. 33 E., unsurveyed,

Sec. 1, N½ and SW¼;

Secs. 2 thru 6;

Sec. 9, NE¼;

Sec. 10, N½,

Sec. 11, NW¼.

T. 21 N., R. 33 E.,

Secs. 1 thru 3;

Sec. 9, E½;

Secs. 10 thru 16;

Sec. 20, E½;

Secs. 21 and 22;

Sec. 23, except patented lands;

Sec. 24, except patented lands;

Secs. 25 thru 29;

Sec. 31, E½;

Secs. 32 thru 36.

T. 16 N., 33 ½ E.,

Sec. 1, that portion north of the southerly right-of-way boundary and south of the northerly right-of-way boundary for U.S. Highway 50;

T. 18 N., R. 33 ½ E.,

Secs. 1 and 12;

Sec. 13, that portion north of Elevenmile Canyon Wash;

Sec. 24, that portion north of Elevenmile Canyon Wash.

T. 19 N., R. 33 ½ E., unsurveyed,

Secs. 24, 25, and 36.

T. 20 N., R. 33 ½ E., unsurveyed,

Sec. 1, N½.

T. 16 N., R. 34 E., partly unsurveyed,

Secs. 1 thru 3;

Sec. 4, lots 1, 2, and 9 thru 12, and SE¼;

Sec. 5, that portion north of the southerly right-of-way boundary and south of the northerly right-of-way boundary for U.S. Highway 50;

Sec. 6, that portion north of the southerly right-of-way boundary and south of the northerly right-of-way boundary for U.S. Highway 50;

Sec. 9, lots 2 and 6, NE¼, and E½SE¼;

Secs. 10 thru 14 and 24.

T. 17 N., R. 34 E.,

Secs. 1 and 2;

Sec. 3, lots 1 and 2, S½NE¼, and SE¼;

Sec. 10, E½;

Secs. 11 thru 13;

Sec. 14, lots 1 thru 4, N½, N½SW¼, and E½SE¼;

Sec. 15, E½;

Sec. 22, E½;

Sec. 23, lots 1 thru 3, E½NE¼, SW¼NE¼, S½NW¼, and S½;

Secs. 24 thru 26;

Sec. 27, E½;

Sec. 34, E½;

Secs. 35 and 36.

T. 18 N., R. 34 E.,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 and 18;

Sec. 19, that portion north of Elevenmile Canyon Wash;

Sec. 20, that portion north of Elevenmile Canyon Wash;

Sec. 21, that portion west of the easterly right-of-way boundary for State Route 121 and north of Elevenmile Canyon Wash;

Secs. 23 thru 26, 35, and 36.

T. 19 N., R. 34 E.,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 thru 20;

Sec. 21, that portion west of the easterly right-of-way boundary for State Route 121;

Secs. 23 and 24;

Sec. 25, lots 1 thru 9, N½NE¼, SW¼NE¼, NW¼, and NW¼SE¼;

Sec. 26, lots 1 thru 5, N½NE¼, SE¼NE¼, and W½;

Sec. 28, that portion west of the easterly right-of-way boundary for State Route 121;

Secs. 29 thru 32;

Sec. 33, that portion west of the easterly right-of-way boundary for State Route 121;

Sec. 35, lot 1, W½NE¼, SE¼NE¼, W½, and SE¼;

Sec. 36, lots 1 thru 11, SW¼NE¼, S½NW¼, and SW¼.

T. 20 N., R. 34 E., partly unsurveyed,

Sec. 1;

Sec. 2, lot 1, SE¼NE¼, and E½SE¼;

Sec. 3, lots 2 thru 4, SW¼NE¼, S½NW¼, SW¼, and W½SE¼;

Secs. 4 and 5;

Sec. 6, N½;

Secs. 8 and 9;

Sec. 10, W½NE¼, W½, and W½SE¼;

Sec. 11, E½NE¼ and E½SE¼;

Secs. 12 and 13;

Sec. 14, E½NE¼ and E½SE¼;

Sec. 15, W½NE¼, W½, and W½SE¼;

Secs. 16, 17, 20, and 21;

Sec. 22, W½NE¼, W½, and W½SE¼;

Sec. 23, E½NE¼ and E½SE¼;

Secs. 24 and 25;

Sec. 26, E½NE¼ and E½SE¼;

Sec. 28, that portion west of the easterly right-of-way boundary for State Route 121;

Secs. 29 thru 32;

Sec. 33, that portion west of the easterly right-of-way boundary for State Route 121;

Secs. 35 and 36.

T. 21 N., R. 34 E.,

Sec. 1, lots 1 thru 7, SW¼NE¼, S½NW¼, and W½SE¼;

Secs. 2 thru 18

Sec. 19, except patented lands;

Secs. 20 thru 23 and 26;

Sec. 27, N½, N½SW¼, SW¼SW¼, N½SE¼SW¼, W½SW¼SE¼SW¼, SE¼SW¼SE¼SW¼, SE¼SE¼SW¼, and SE¼;

Secs. 28 thru 33;

Sec. 34, W½.

T. 22 N., R. 34 E., unsurveyed,

Secs. 34, 35, and 36.

T. 15 N., R. 35 E., unsurveyed,

Sec. 5.

T. 16 N., R. 35 E.,

Secs. 5 thru 8, 17 thru 20, 29, 30, and 32.

T. 17 N., R. 35 E.,

Secs. 2 thru 10;

Sec. 11, W½;

Sec. 15, N½;

Secs. 16 thru 20;

Sec. 21, N½ and SW¼;

Secs. 29 thru 32.

T. 18 N., R. 35 E., unsurveyed,

Secs. 1 thru 3;

Sec. 4, except patented lands;

Sec. 5, except patented lands;

Sec. 6, except patented lands;

Sec. 7;

Sec. 8, except patented lands;

Sec. 9, except patented lands;

Secs. 10 thru 24 and 26 thru 35.

T. 19 N., R. 35 E.,

Sec. 2;

Sec. 3, lots 1 thru 4, S½NE¼, S½NW¼, SW¼, N½SE¼, NE¼SW¼SE¼, N½NW¼SW¼SE¼, E½SE¼SE¼, NW¼SE¼SE¼, N½SW¼SE¼SE¼, and SE¼SW¼SE¼SE¼;

Secs. 4 thru 9;

Sec. 10, S½SW¼NE¼NE¼, S½SE¼NE¼NE¼, S½NE¼NW¼NE¼, S½NW¼NW¼NE¼, S½NW¼NE¼, S½NE¼, W½, and SE¼;

Sec. 11, NE¼, E½SE¼NE¼NW¼, NW¼NW¼NW¼, S½SW¼NW¼NW¼, S½SE¼NW¼NW¼, SW¼NW¼, NE¼NE¼SW¼, SE¼NW¼NE¼SW¼, N½SE¼NE¼SW¼, SE¼SE¼NE¼SW¼, W½SW¼, S½NE¼SE¼SW¼, S½NW¼SE¼SW¼, S½SE¼SW¼, N½NE¼SE¼, N½SW¼NE¼SE¼, N½SE¼NE¼SE¼, N½NW¼SE¼, W½SW¼NW¼SE¼, N½SE¼NW¼SE¼, S½SW¼SE¼, and S½SE¼SE¼;

Secs. 14 thru 29;

Sec. 30, lots 1 thru 6, E½, and E½NW¼;

Sec. 31, lots 1 thru 7, NE¼, E½SW¼, N½SE¼, and SW¼SE¼;

Sec. 32, lots 1 thru 8, NW¼, and N½SW¼;

Sec. 33, lots 1 thru 9, E½NE¼, and SE¼;

Secs. 34 thru 36.

T. 20 N., R. 35 E., unsurveyed,

Secs. 3 thru 10, 15 thru 22, and 26 thru 35.

T. 21 N., R. 35 E.,

Secs. 1 thru 3;

Sec. 4, lots 3 thru 8 and S½NW¼;

Sec. 5, lots 1 thru 4, S½NE¼, and S½NW¼;

Secs. 6 and 7;

Sec. 10, N½;

Sec. 11, W½;

Secs. 12 and 13;

Sec. 14, NE¼ and S½;

Sec. 15, S½NE¼, S½NW¼, and SE¼;

Sec. 16, SE¼;

Sec. 17, W½;

Sec. 19, lots 5 thru 15;

Sec. 20, W½ and SE¼SE¼;

Sec. 21, E½ and SW¼;

Sec. 22, E½ and SW¼;

Secs. 23 and 24;

Sec. 25, lots 3 thru 6 and 11 thru 14;

Secs. 26 thru 35;

Sec. 36, lots 3 thru 6 and 9 thru 12.

T. 22 N., R. 35 E.,

Secs. 31 thru 36.

T. 19 N., R. 36 E.,

Sec. 19, lots 1 thru 4, E½NW¼, and E½SW¼;

Sec. 30, lots 1 thru 3, NE¼, E½NW¼, NE¼SW¼, N½SE¼, and SE¼SE¼;

Sec. 31, lot 4, E½, and E½SW¼.

T. 21 N., R. 36 E.,

Secs. 2 thru 9 and 16 thru 20.

T. 22 N., R. 36 E.,

Secs. 31 thru 35.

The area described for Dixie Valley Training Area aggregates 277,046.69 acres in Churchill and Mineral Counties.

Department of Navy Lands Not Withdrawn From the Public Domain

T. 20 N., R. 34 E.,

Sec. 14, W½NE¼, W½, and W½SE¼;

Sec. 15, E½NE¼ and E½SE¼;

Sec. 22, E½NE¼ and E½SE¼;

Sec. 23, W½NE¼, W½, and W½SE¼.

T. 21 N., R. 34 E.,

Sec. 1, SW¼;

Sec. 24;

Sec. 25, lots 3 and 4, SW¼, and W½SE¼;

Sec. 34, E½;

Secs. 35 and 36.

T. 19 N., R. 35 E.,

Sec. 3, S½NW¼SW¼SE¼, S½SW¼SE¼, and SW¼SW¼SE¼SE¼;

Sec. 10, N½NE¼NE¼, N½SW¼NE¼NE¼, N½SE¼NE¼NE¼, N½NE¼NW¼NE¼, and N½NW¼NW¼NE¼;

Sec. 11, N½NE¼NW¼, SW¼NE¼NW¼, W½SE¼NE¼NW¼, NE¼NW¼NW¼, N½SW¼NW¼NW¼, N½SE¼NW¼NW¼, SE¼NW¼, N½NW¼NE¼SW¼, SW¼NW¼NE¼SW¼, SW¼NE¼SW¼, SW¼SE¼NE¼SW¼, N½NE¼SE¼SW¼, N½NW¼SE¼SW¼, S½SW¼NE¼SE¼, S½SE¼NE¼SE¼, E½SW¼NW¼SE¼, S½SE¼NW¼SE¼, N½SW¼SE¼, N½SE¼SE¼, and SW¼SE¼NE¼SW¼.

T. 21 N., R. 35 E.,

Sec. 4, W½SW¼, SE¼SW¼, and SE¼;

Sec. 5, S½;

Sec. 8, N½, NW¼SW¼, and SE¼;

Sec. 9, N½, SW¼, N½NE¼SE¼, N½NW¼SE¼, SW¼NW¼SE¼, W½SE¼NW¼SE¼, W½NE¼SW¼SE¼, SE¼NE¼SW¼SE¼, W½SW¼SE¼, SE¼SW¼SE¼, S½NE¼SE¼SE¼, S½NW¼SE¼SE¼, and S½SE¼SE¼;

Sec. 10, S½;

Sec. 14, NW¼;

Sec. 15, N½NE¼, N½NW¼, and SW¼;

Sec. 16, N½ and SW¼;

Sec. 17, E½;

Sec. 18, lots 1 thru 4, E½NW¼, E½SW¼, W½SE¼, and NE¼SE¼ except Parcel 1 of Logan Turley Parcel Map, filed in the office of the County Recorder of Churchill County of July 9, 1979, under filing number 165908;

Sec. 19, lots 1 and 2, NW¼NE¼, and E½NW¼;

Sec. 20, NE¼, N½SE¼, and SW¼SE¼;

Sec. 21, NW¼;

Sec. 22, NW¼.

The area described for Dixie Valley Training Area aggregates 8,722.47 acres in Churchill, and Mineral Counties.

Non-Federally Owned Lands

T. 13 N., R. 32 E.,

A portion of M.S. No. 4773A (Don and Tungsten No. 1 Lodes).

T. 16 N., R. 33 E.,

Sec. 3, the right-of-way for U.S. Highway 50, as described in deed recorded July 27, 1934, Book 20, Deed Records, page 353, Doc. No. 48379 of Churchill County, NV.

T. 21 N., R. 33 E.,

M.S. No. 1877 (IXL, 1st Ext. IXL, Black Prince, 1st Ext. Black Prince, Twin Sister, and Twin Sister No. 2 Lodes);

M.S. No. 1936 A (Bonanza);

M.S. No. 1937 (Spring Mine).

T. 16 N., R. 34 E.,

A portion of M.S. No. 3630 (Kimberly No. 3 and Kimberly No. 4 Lodes).

T. 17 N., R. 34 E.,

M.S. No. 4180 (Copper King, Central and Horn Silver Lodes).

T. 19 N., R. 34 E.,

M.S. No. 3064 (Spider, Wasp, Tony Pah, Long Nel, and Last Chance Lodes);

A portion of M.S. No. 3122 (Great Eastern No. 1, Great Eastern No. 3, and Great Eastern No. 4 Lodes);

A portion of M.S. No. 3398 (Nevadan, Little Witch, Silver Tip, Valley View, and Panhandle Lodes);

M.S. No. 3424 (Bumblebee, Grey Horse, Grey Horse No. 2, Grey Horse No. 1, Triangle Fraction, and Kingstone Lodes);

M.S. No. 3885 (Last Chord, King Midas, King Midas No. 1, King Midas No. 2, and King Midas No. 3 Lodes).

T. 21 N., R. 34 E.,

Sec. 27, NE¼SW¼SE¼SW¼ (Dixie Cemetery).

T. 18 N., R. 35 E., unsurveyed,

M.S. No. 2954 (Blue Jay Lode);

M.S. No. 3070 (Mars Lode);

M.S. No. 3071 (Scorpion Lode);

M.S. No. 3072 (B. and S. Lode);

M.S. No. 3078 (Nevada Wonder Lode);

M.S. No. 3079 (Ruby No. 1 Lode);

M.S. No. 3123 (Last Chance Lode);

M.S. No. 3124 (Last Chance No. 1 Lode);

M.S. No. 3325 (Nevada Wonder No. 2 Lode);

M.S. No. 3326 (Last Chance No. 2 Lode);

M.S. No. 3327 (Nevada Wonder No. 1, Ruby, and Ruby No. 2 Lodes);

M.S. No. 3416 (Starr Lode);

M.S. No. 3417 (Moss Fraction Lode);

A portion of M.S. No. 3671 (Gold Dawn No. 1, Gold Dawn No. 2, Gold Dawn No. 3, and Gold Dawn No. 6 Lodes);

A portion of M.S. No. 3750 (Hercules, Jackrabbit, Hilltop, and Hercules No. 2 Lodes);

M.S. No. 4225 (Nevada Wonder No. 3 Lode);

M.S. No. 4226 (Hidden Treasure, Hidden Treasure No. 1, and Hidden Treasure No. 2 Lodes);

M.S. No. 4227 (North Star, Rose No. 1, Twilight No. 2, and Twilight No. 3 Lodes);

Wonder Townsite, (Patent No. 214499, July 3, 1911);

Wonder Townsite, Blocks 31 and 42.

T. 19 N., R. 35 E.,

M.S. No. 2826 (Jackpot and Grand View Lodes);

A portion of M.S. No. 3122 (Great Eastern, Great Eastern No. 1, Great Eastern No. 3, Great Eastern No. 4, and Great Eastern Fraction Lodes);

A portion of M.S. No. 3398 (Little Witch, Silver Tip, Valley View, Pan Handle, and Yellow Jacket Lodes);

M.S. No. 3671 (Gold Dawn No. 1, Gold Dawn No. 2, and Gold Dawn No. 3 Lodes);

M.S. No. 3732 (Gold Bar No. 4, New York No. 2, and Blister Foot Lodes);

A portion of M.S. No. 3750 (Hilltop Fraction, Hercules, Hercules No. 2, Hercules No. 3, Hilltop, Jackrabbit, Worm, Beauty, Lizard No. 1, and Grand View Fraction Lodes);

M.S. No. 3786 (Queen, Queen No. 1, Queen No. 4, Queen No. 5, Queen No. 7, Queen No. 8, Queen No. 9, Queen No. 10, Queen No. 11, Queen Bee, and Great Bend Lodes).

T. 21 N., R. 35 E.,

Sec. 4, NE¼SW¼;

Sec. 8, E½SW¼ and SW¼SW¼;

Sec. 9, S½NE¼SE¼, E½SE¼NW¼SE¼, NE¼NE¼SW¼SE¼, N½NE¼SE¼SE¼, and N½NW¼SE¼SE¼;

Sec. 11, E½;

Sec. 18, a portion of NE¼SE¼ being Parcel 1 of Logan Turley Parcel Map, filed in the office of the County Recorder of Churchill County of July 9, 1979, under filing number 165908.

T. 19 N., R. 36 E.,

Sec. 30, lot 4, SE¼SW¼, and SW¼SE¼;

Sec. 31, lots 1 thru 3 and E½NW¼.

The area described for Dixie Valley Training Area aggregates 2,351.80 acres in Churchill and Mineral Counties.

In the event any non-federally owned lands within the requested withdrawal area return or pass to Federal ownership in the future, they would be subject to the terms and conditions described above.

The purpose of the requested withdrawal extension and expansion at NAS FRTC is to withdraw and reserve the lands for use by the DON for testing and training involving air-to-ground weapons delivery, tactical maneuvering, use of electromagnetic spectrum, land warfare maneuver, and air support, as well as other defense-related purposes consistent with these purposes. National defense requirements are rapidly evolving in response to new and emerging worldwide threat conditions. The Department of Defense has responded to these new and emerging threats with advances in combat platform and weapon technologies, in an effort to maintain a competitive edge in combat operations abroad. The evolution of modern combat systems has placed an increased demand on tactical training ranges to meet combat pre-deployment training requirements. All deploying naval strike aviation units train at the FRTC prior to deployment. Many deploying Naval Special Warfare units also train at FRTC. The introduction of modern and advanced weapons systems already exceeds the DON's ability to train realistically at the FRTC while maintaining public safety. According to the DON, Training protocols are severely limited due to a lack of adequate training space at the FRTC. These limitations diminish the DON's ability to train to realistic deployment methods of existing weapons systems. The DON indicates that extension and expansion of the withdrawn and reserved Federal lands at Fallon are essential to provide a realistic tactical training at the FRTC while continuing to provide for public safety.

Copies of the legal descriptions and the maps depicting the lands that are the subject of the DON's applications are available for public inspection at the following offices:

State Director, BLM Nevada State Office, 1430 Financial Blvd., Reno, Nevada 89502

District Manager, BLM Carson City District Office, 5665 Morgan Mill Road, Carson City, Nevada 89701

For a period until December 1, 2016 all persons who wish to submit comments, suggestions, or objections in connection with the withdrawal applications may present their comments in writing to the persons and offices listed in the ADDRESSES section above. All comments received will be considered before the Secretary of the Interior makes any recommendation for withdrawal to Congress.

Notice is hereby given that public meetings addressing the withdrawal applications will be held jointly with the DON's public meetings associated with NEPA evaluation of the proposed withdrawals. Public meetings will be held at the following locations:

• Fallon Convention Center, Fallon, NV, October 3, 2016, 3-7 p.m.;

• Pershing County Community Center, Lovelock, NV, October 4, 2016, 11 a.m.-1 p.m.;

• Evelyn Mount NE Community Center, Reno, NV, October 4, 2016, 5-7 p.m.;

• Emma Nevada Town Hall, Austin, NV, October 5, 2016, 5-7 p.m.;

• Eureka Elementary School, Eureka, NV, October 6, 2016, 5-7 p.m.;

• Hawthorne Convention Center, Hawthorne, NV, October 7, 2016, 11 a.m.-1 p.m.;

• Gabbs School Gymnasium Gabbs, NV, October 7, 2016, 5-7 p.m.

The DON will be the lead agency for evaluation of the proposed withdrawal extension and expansion pursuant to NEPA and other applicable environmental and cultural resources authorities, and will be publishing its own scoping and other notices.

Comments, including names and street addresses of respondents, will be available for public review at the DON and BLM addresses noted above, during regular business hours Monday through Friday, except Federal holidays. Before including your address, phone number, email address, or other personal identifying information in your comment, you should be aware that your entire comment, including your personal identifying information, may be publicly available at any time. While you can ask us in your comment to withhold your personal identifying information from public review, we cannot guarantee that we will be able to do so.

Subject to valid existing rights, the Federal lands that are the subject of the DON application for expansion of the withdrawal and reservation for DON use at Fallon, and that are described in this Notice, will be segregated from all forms of appropriation under the public land laws, including the mining laws, the mineral leasing laws, and the geothermal leasing laws. The segregation will continue for a period until [two years from date of publication in Federal Register], unless the applications/proposal are denied or canceled or the withdrawal is approved prior to that date. In addition, subject to valid existing rights, 68,804 acres of land in the DVTA, described in this Notice, will be segregated from operation of the mineral leasing laws for the same two year period, unless the applications/proposal are denied or canceled or the withdrawal is approved within that period. Licenses, permits, cooperative agreements, or discretionary land use authorizations may be allowed during the period of segregation, but only with the approval of the authorized officer and, as appropriate, with the concurrence of DON.

The applications for withdrawal and reservation will be processed in accordance with the regulations at 43 CFR part 2300.

Authority: 43 U.S.C. 1714(b)(1) and 43 CFR 2300.

John F. Ruhs,
State Director, Nevada.

[FR Doc. 2016-21213 Filed 9-1-16; 8:45 am]

BILLING CODE 4310-HC-P